DEPARTMENT OF VETERANS AFFAIRS

[OMB Control No. 2900-0793]

Proposed Information Collection (VA Health Professional Scholarship and Visual Impairment and Orientation and Mobility Professional Scholarship Programs) Activity: Comment Request.

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before December 6, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0793” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

1. Academic Verification, VA Form 10-0491.

2. Addendum to Application, VA Form 10-0491a.

3. Annual VA Employment Deferment Verification, VA Form 10-0491c.

4. Education Program Completion Notice Service Obligation Placement, VA Form 10-0491d.

5. Evaluation Recommendation Form, VA Form 10-0491e.

6. HPSP Agreement, VA Form 10-0491f.

7. HPSP/OMPSP Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

OMB Control Number: 2900-0793.

Type of Review: Revision of a currently approved collection.

Abstract: The information required determines the eligibility or suitability of an applicant desiring to receive an award under the provisions of 38 U.S.C. 7601 through 7619, and 38 U.S.C. 7501 through 7505. The information is needed to apply for the VA Health Professional Scholarship Program or Visual Impairment and Orientation and Mobility Professional Scholarship Program. The VA Health Professional Scholarship Program awards scholarships to students receiving education or training in a direct or indirect healthcare services discipline to assist in providing an adequate supply of such personnel for VA and for the United States. The Visual Impairment and Orientation and Mobility Professional Scholarship Program awards scholarships to students pursuing a program of study leading to a degree in visual impairment or orientation and mobility in order to increase the supply of qualified blind rehabilitation specialists for VA and the Nation.

Affected Public: Individuals or households.

Estimate of the Hour Burden for the Collection of Information
VA forms: | Number of respondents | × Number of responses | Equals | × Number of minutes | Equals (minutes) | ÷ by 60 = | Number of hours
Applicants:
10-0491g—Application | 1,500 | 1 | 1,500 | 60 | 90,000 |  | 1,500
10-0491—Academic Verification | 1,500 | 1 | 1,500 | 60 | 90,000 |  | 1,500
10-0491e—Evaluations & Recommendations (2) | 1,500 | 2 | 3,000 | 50 | 150,000 |  | 2,500
10-0491a—Addendum to Application | 450 (30%) | 1 | 450 | 10 | 4,500 |  | 75
Total |  |  |  |  |  |  | 5,575
Applicants Selected to Receive a Scholarship:
10-0491L—Agreement for the VIOMPSP | 30 | 1 | 30 | 15 | 450 |  | 8
10-0491k—VA Scholarship Offer Response | 30 | 1 | 30 | 10 | 300 |  | 5
10-0491i—Notice of Change and/or Annual Academic Status Report | 30 | 1 | 30 | 20 | 600 |  | 10
10-0491h—Notice of Approaching Graduation | 30 | 1 | 30 | 10 | 300 |  | 5
10-0491d—Education Program Completion Notice/Service Obligation Placement | 30 | 1 | 30 | 20 | 600 |  | 10
10-0491j—Request for Deferment for Advanced Education | 6 | 1 | 6 | 10 | 60 |  | 1
10-0491c—Annual VA Employment/Deferment Verification | 30 | 1 | 24 | 10 | 240 |  | 4
Total |  |  |  |  |  |  | 43
Grand Total for VIOMPSP |  |  |  |  |  |  | 5,618
Health Professional Scholarship Program (HPSP)
Applicants:
10-0491g—Application | 5,000 | 1 | 5,000 | 60 | 300,000 |  | 5,000
10-0491—Academic Verification | 5,000 | 1 | 5,000 | 60 | 300,000 |  | 5,000
10-0491e—Evaluations & Recommendations (2) | 5,000 | 2 | 10,000 | 50 | 500,000 |  | 8,333
10-0491a—Addendum to Application | 1500 (30%) | 1 | 1500 | 10 | 15,000 |  | 250
Total |  |  |  |  |  |  | 18,583
Applicants Selected to Receive a Scholarship:
10-0491f—Agreement for the HPSP | 100 | 1 | 100 | 15 | 1,500 |  | 25
10-0491k—VA Scholarship Offer Response | 100 | 1 | 100 | 10 | 1,000 |  | 17
10-0491i—Notice of Change and/or Annual Academic Status Report | 100 | 1 | 100 | 20 | 2,000 |  | 33
10-0491h—Notice of Approaching Graduation | 100 | 1 | 100 | 10 | 1,000 |  | 17
10-0491d—Education Program Completion Notice/Service Obligation Placement | 100 | 1 | 100 | 20 | 2,000 |  | 33
10-0491j—Request for Deferment for Advanced Education | 20 | 1 | 20 | 10 | 200 |  | 3
10-0491c—Annual VA Employment/Deferment Verification | 80 | 1 | 80 | 10 | 800 |  | 13
Total |  |  |  |  |  |  | 141
Grand Total for HPSP |  |  |  |  |  |  | 18,724
Grand Total for Both VIOMPSP and HPSP |  |  |  |  |  |  | 24,342

Frequency of Response: Annually.

By direction of the Secretary.
Cynthia Harvey-Pryor,
Program Specialist, Office of Privacy and Records Management, Department of Veterans Affairs.

[FR Doc. 2016-24244 Filed 10-6-16; 8:45 am]

BILLING CODE 8320-01-P